DEPARTMENT OF DEFENSE

Department of the Air Force

Announcement of IS-GPS-200, IS-GPS-705, IS-GPS-800 Interface Control Working Group (ICWG) Meeting

ACTION: Meeting notice.

SUMMARY: This Notice is to extend the comment submission period regarding the earlier published version on October 7, 2008 Vol. 73, No. 195 Interface Control Working Group (ICWG) Meeting. The comment period has been extended to November 6, 2008 from October 28, 2008. This notice informs the public that the Global Positioning Systems Wing will be hosting an Interface Control Working Group (ICWG) meeting for document/s IS-GPS-200 (NAVSTAR GPS Space Segment/Navigation User Interfaces), IS-GPS-705 (NAVSTAR GPS Space Segment/User Segment L5 Interfaces), and IS-GPS-800 (NAVSTAR GPS Space Segment/User Segment L1C Interfaces). The meeting will address PIRN/IRN changes and contractor redlines to the documents.

The ICWG is open to the general public. For those who would like to attend and participate in this ICWG meeting, you are requested to register to attend the meeting no later than 4 November 08. Please send the registration to thomas.davis.ctr@losangeles.af.mil and provide your name, organization, telephone number, address, and country of citizenship. More information, including Comments Resolution Matrixes (CRMs) and track changed documents, will be posted at: http://www.losangeles.af.mil/library/factsheets/factsheet.asp?id=9364.

Please send all CRM comments to Thomas Davis, the deadline for comment submission has been extended to 6 November 2008.

DATES: November 18 2008: IS-GPS-800, from 8 a.m. to 4 p.m., and November 19 2008: IS-GPS-200, IS-GPS-705, from 8 a.m. to 4 p.m.

Location: The Hacienda Hotel, 525 N. Sepulveda Blvd., El Segundo, CA 90245, (310) 615-0015.

FOR FURTHER INFORMATION CONTACT: Thomas Davis, 1-310-416-8440, thomas.davis.ctr@losangeles.af.mil, or Captain Neal Roach 1-310-653-3771, neal.roach@losangeles.af.mil.

Bao-Anh Trinh,
Air Force Federal Register Liaison Officer.

[FR Doc. E8-26233 Filed 11-3-08; 8:45 am]

BILLING CODE 5001-05-P